DEPARTMENT OF COMMERCE

Census Bureau

Proposed Information Collection; Comment Request; Monthly Wholesale Trade Survey

AGENCY: U.S. Census Bureau, Department of Commerce.

ACTION: Notice of information collection; request for comment.

SUMMARY: The Department of Commerce, as part of its continuing effort to reduce paperwork and respondent burden, invites the general public and other Federal agencies to take this opportunity to comment on a proposed extension of the Monthly Wholesale Trade Survey (0607-0190), as required by the Paperwork Reduction Act of 1995.

DATES: To ensure consideration, written comments must be submitted on or before December 31, 2019.

ADDRESSES: Direct all written comments to Thomas Smith, PRA Liaison, U.S. Census Bureau, 4600 Silver Hill Road, Room 7K250A, Washington, DC 20233 (or via the internet at PRAcomments@doc.gov). You may also submit comments, identified by Docket Number USBC-2019-0015, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Aidan Smith, U.S. Census Bureau, Room 6K081, Washington, DC 20233-6500, (301) 763-2972 (or via the internet at aidan.d.smith@census.gov).

SUPPLEMENTARY INFORMATION:

I. Abstract

The Monthly Wholesale Trade Survey (MWTS) provides a continuous measure of monthly sales, end-of-month inventories, and inventories/sales ratios in the United States by selected kinds of business for merchant wholesalers, excluding manufacturers' sales branches and offices. Estimates from the MWTS are released in three different reports each month. High level aggregate estimates for end-of-month inventories are first released as part of the Advance Economic Indicators Report approximately 25 to 29 calendar days after the close of the reference month. The full Monthly Wholesale Trade Report containing both sales and inventories estimates is released approximately 6 weeks after the close of the reference month. Sales and inventories estimates from the MWTS are also released as part of the Manufacturing and Trade Inventories and Sales (MTIS) report issued approximately 6 weeks after the close of the reference month. The Bureau of Economic Analysis uses this information to improve the inventory valuation adjustments applied to estimates of the Gross Domestic Product. The Bureau of Labor Statistics uses the data as input to develop Producer Price Indexes and productivity measurements.

Estimates produced from the MWTS are based on a probability sample and are published on the North American Industry Classification System (NAICS) basis. The sample of 4,200 small, medium, and large wholesale businesses reports monthly on sales and inventories. The sample is drawn from the Business Register, which contains all Employer Identification Numbers (EINs) and listed establishment locations. The sample is updated quarterly to reflect employer business “births” and “deaths.” New employer businesses identified in the Business and Professional Classification Survey are added and employer businesses determined to be no longer active are removed.

II. Method of Collection

We contact respondents initially by mailing them the MWTS form. Respondents have the option of reporting their data online, returning the paper form by fax or mail, or giving data by telephone. After initial contact, respondents have a choice to receive future correspondence by mailed form, faxed notice, or email. The email and faxed notices inform respondents that the online system is open for reporting for the specified reference month.

III. Data

OMB Control Number: 0607-0190.

Form Number(s): SM4217-A and SM4217-E.

Type of Review: Regular submission.

Affected Public: U.S. merchant wholesale firms, excluding manufacturers' sales branches and offices.

Estimated Number of Respondents: 4,200.

Estimated Time per Response: 7 minutes.

Estimated Total Annual Burden Hours: 5,880 hours.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-23881 Filed 10-31-19; 8:45 am]

BILLING CODE 3510-07-P